ENVIRONMENTAL PROTECTION AGENCY

40 CFR Part 52

[EPA-R06-OAR-2011-0426; FRL-9463-6]

Approval and Promulgation of Implementation Plans; Texas; Revisions to Permits by Rule and Regulations for Control of Air Pollution by Permits for New Construction or Modification

AGENCY: Environmental Protection Agency (EPA).

ACTION: Withdrawal of direct final rule.

SUMMARY: On July 25, 2011, EPA published a direct final rule approving portions of three revisions to the Texas State Implementation Plan (SIP) submitted on August 31, 1993; July 22, 1998; and October 5, 2010. The revisions amend existing sections and create new sections in Title 30 of the Texas Administrative Code (TAC), Chapter 116—Control of Air Pollution by Permits for New Construction or Modification. The August 31, 1993, revision creates two new sections at 30 TAC 116.174 and 116.175 for the use of emission reductions as offsets in new source review permitting. The July 22, 1998, revision creates 30 TAC 116.116(f) allowing for the use of Discrete Emission Reduction Credits (DERC) to exceed emission limits in permits (permit allowables) and amends 30 TAC 116.174 to update internal citations to other Texas regulations. The October 5, 2010, revision amends 30 TAC 116.116(f) to update internal citations to other Texas regulations. The direct final action was published without prior proposal because EPA anticipated no adverse comments. EPA stated in the direct final rule that if we received relevant, adverse comments by August 24, 2011, EPA would publish a timely withdrawal in the Federal Register. EPA subsequently received timely adverse comments on the direct final rule. Therefore, EPA is withdrawing the direct final approval. EPA will address all relevant, adverse comments submitted by August 24, 2011, in a subsequent final action based on the parallel proposal also published on July 25, 2011. As stated in the parallel proposal, EPA will not institute a second comment period on this action.

DATES: The direct final rule published on July 25, 2011 (76 FR 44271), is withdrawn as of September 15, 2011.

FOR FURTHER INFORMATION CONTACT: Ms. Erica Le Doux (6PD-R), Air Permits Section, Environmental Protection Agency, Region 6, 1445 Ross Avenue (6PD-R), Suite 1200, Dallas, TX 75202-2733. The telephone number is (214) 665-7265. Ms. Le Doux can also be reached via electronic mail at ledoux.erica@epa.gov.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: September 6, 2011.
Al Armendariz,
Regional Administrator, EPA Region 6.

Accordingly, the amendments to 40 CFR 52.2270 published in the Federal Register on July 25, 2011 (76 FR 44271), which were to become effective on September 23, 2011, are withdrawn.

[FR Doc. 2011-23523 Filed 9-14-11; 8:45 am]

BILLING CODE 6560-50-P